ENVIRONMENTAL PROTECTION AGENCY

[EPA-HQ-OPP-2009-0684; FRL-8798-3]

Receipt of Petition Requesting EPA to Suspend the Registration of Rozol Prairie Dog Bait and Cancel Certain Application Sites; Extension of Comment Period

AGENCY: Environmental Protection Agency (EPA).

ACTION: Notice; extension of comment period.

SUMMARY: EPA issued a notice in the Federal Register of October 7, 2009, concerning the receipt of a petition that requested the suspension of Rozol Prairie Dog Bait and also requested the cancellation of certain application sites for the product. This document extends the comment period for 31 days, from November 6, 2009 to December 7, 2009.

DATES: Comments, identified by docket identification (ID) number EPA-HQ-OPP-2009-0684, must be received on or before December 7, 2009.

ADDRESSES: Follow the detailed instructions as provided under ADDRESSES in the Federal Register document of October 7, 2009.

FOR FURTHER INFORMATION CONTACT: Dan Peacock, Registration Division (7505P), Office of Pesticide Programs, Environmental Protection Agency, 1200 Pennsylvania Ave., NW., Washington, DC 20460-0001; telephone number: (703) 605-5407; e-mail address: peacock.dan@epa.gov.

SUPPLEMENTARY INFORMATION: This document extends the public comment period established in the Federal Register of October 7, 2009 (74 FR 51601) (FRL-8436-1). In that document, EPA provided an opportunity for public comment on a petition received from the World Wildlife Fund (WWF) that asked the Agency to suspend the registration of Rozol Prairie Dog Bait (EPA Reg. No. 7173-286) and cancel certain application sites for the product. The primary basis for the petition is the potential effect of this product on non-target species, including certain predators and scavengers of the black-tailed prairie dog. EPA is hereby extending the comment period, which was set to end on November 6, 2009 to December 7, 2009.

To submit comments, or access the docket, please follow the detailed instructions as provided under ADDRESSES in the October 7, 2009 Federal Register document. If you have questions, consult the person listed under FOR FURTHER INFORMATION CONTACT.

List of Subjects

Environmental protection, pesticides, and pests.

Dated: October 29, 2009
Debra Edwards,
Director, Office of Pesticide Programs.

[FR Doc. E9-26522 Filed 11-3-09; 8:45 am]

BILLING CODE 6560-50-S